DEPARTMENT OF JUSTICE

Drug Enforcement Administration

Manufacturer of Controlled Substances; Notice of Registration

By Notice dated December 22, 1999, and published in the Federal Register on February 2, 2000 (65 FR 22), ISP Freetown Fine Chemicals, Inc., 238 South Main Street, Freetown, Massachusetts 02702, made application by letter to the Drug Enforcement Administration (DEA) to be registered as a bulk manufacturer of 2,5-dimethoxyamphetamine (7396), a basic class of controlled substance listed in Schedule I.

The firm plans to manufacture bulk 2,5-dimethoxyamphetamine for conversion into a non-controlled substance.

DEA has considered the factors in title 21, United States Code, section 823(a) and determined that the registration of ISP Freetown Fine Chemicals Inc. to manufacture 2,5-dimethoxyamphetamine is consistent with the public interest at this time. DEA has investigated the ISP Freetown Fine Chemicals Inc. to ensure that the company's continued registration is consistent with the public interest. These investigations have included inspection and testing of the company's physical security systems, verification of the company's compliance with state and local laws, and a review of the company's background and history. Therefore, pursuant to 21 U.S.C. 823 and 28 CFR 0.100 and 0.104, the Deputy Assistant Administrator, Office of Diversion Control, hereby orders that the application submitted by the above firm for registration as a bulk manufacturer of the basic class of controlled substance listed above is granted.

Dated: August 1, 2000.
John H. King,
Deputy Assistant Administrator, Office of Diversion Control, Drug Enforcement Administration.

[FR Doc. 00-21116 Filed 8-17-00; 8:45 am]

BILLING CODE 4410-09-M